ENVIRONMENTAL PROTECTION AGENCY

[EPA-HQ-OW-2020-0193; FRL 10017-31-OMS]

Information Collection Request Submitted to OMB for Review and Approval; Comment Request; Effluent Limitation Guidelines and Standards for the Dental Category (Renewal)

AGENCY: Environmental Protection Agency (EPA).

ACTION: Notice.

SUMMARY: The Environmental Protection Agency (EPA) has submitted an information collection request (ICR), Effluent Limitation Guidelines and Standards for the Dental Category (OMB Control Number 2040-0287; EPA ICR Number 2514.03), to the Office of Management and Budget (OMB) for review and approval in accordance with the Paperwork Reduction Act. This is a proposed extension of the ICR, which is currently approved through November 30, 2020. Public comments were previously requested via the Federal Register on April 30, 2020 during a 60-day comment period. This notice allows for an additional 30 days for public comments. A fuller description of the ICR is provided in the Executive Summary.

DATES: Additional comments may be submitted on or before February 1, 2021.

ADDRESSES: Submit your comments to EPA, referencing Docket ID No. EPA-HQ-OW-2020-0193 online using www.regulations.gov (our preferred method), by email to ow-docket@epa.gov, or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Joshua Baehr, National Program Branch, Water Permits Division, OWM Mail Code: 4203M, Environmental Protection Agency, 1200 Pennsylvania Ave. NW, Washington, DC 20460; telephone number: (202) 564-0742; email address: Baehr.Joshua@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: This ICR calculates the burden and costs associated with reporting and record-keeping activities required under the Final Effluent Limitations Guidelines (ELG) and Standards for the Dental Category. For purposes of this estimate, EPA assumed all existing dentists affected by the original rulemaking would have complied with the One-Time Compliance Reporting by the time of this ICR renewal. This estimate includes the effort for One-Time Compliance Reporting for new dental offices which open during the ICR period and those which transfer ownership and conduct annual recordkeeping. This estimate is based on average total compensation labor rates from the Bureau of Labor Statistics for the dental office personnel involved in collecting and reporting the information required. This estimate also includes the effort for control authorities to review the information submitted by dentists that certify they meet the requirements of the final rule. EPA estimates that there will be no start-up or capital costs associated with the information described above. Respondent reports may contain confidential business information. If a respondent does consider this information to be of a confidential nature, the respondent may request that such information be treated as confidential. All confidential data will be handled in accordance with 40 CFR 122.7, 40 CFR part 2, and EPA's Security Manual part III, chapter 9, dated August 9, 1976.

Form Numbers: None.

Respondents/affected entities: Dentists, Control Authorities.

Respondent's obligation to respond: Mandatory (40 CFR 403 & 441).

Estimated number of respondents: 124,378 annual average (122,741 permittees and 1,637 Publicly Owned Treatment Works and States/Tribes/Territories).

Frequency of response: One time.

Total estimated burden: 392,646 hours (per year). Burden is defined at 5 CFR 1320.03(b).

Total estimated cost: $11,065,904 (per year), includes $9,671 in non-labor costs (i.e., postage and file storage).

Changes in the Estimates: There is a decrease of 39,467 hours in the total estimated respondent burden compared with the ICR currently approved by OMB. The burden decrease is based on the assumption that all existing dental offices which place or remove amalgam submitted the required One-Time Compliance Report during the prior ICR period. EPA is assuming a one percent growth rate in dental offices and that only new dental offices and dental offices transferring ownership will be doing the One-Time Compliance Reporting.

Courtney Kerwin,
Director, Regulatory Support Division.

[FR Doc. 2020-28998 Filed 12-30-20; 8:45 am]

BILLING CODE 6560-50-P